DEPARTMENT OF THE INTERIOR

National Park Service

[NPS-WASO-NRNHL-16668; PPWOCRADI0, PCU00RP14.R50000]

National Register of Historic Places; Notification of Pending Nominations and Related Actions

Nominations for the following properties being considered for listing or related actions in the National Register were received by the National Park Service before August 30, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by October 14, 2014. Before including your address, phone number, email address, or other personal identifying information in your comment, you should be aware that your entire comment—including your personal identifying information—may be made publicly available at any time. While you can ask us in your comment to withhold your personal identifying information from public review, we cannot guarantee that we will be able to do so.

Dated: September 15, 2014.
J. Paul Loether,
Chief, National Register of Historic Places/National Historic Landmarks Program.

ARIZONA

Pima County

Tucson Community Center Landscape, 180-260 S. Church Ave., Tucson, 14000850

CALIFORNIA

Riverside County

Luiseno Ancestral Origin Landscape, Address Restricted, Temecula, 14000851

San Luis Obispo County

Morro Bay State Park Trailer and Tent Campground, (National-State Cooperative Program and the CCC in California State Parks MPS) 20 State Park Rd., Morro Bay, 14000852

COLORADO

Gilpin County

Winks Panorama (Boundary Increase), 213 Winks Way, Pinecliffe, 14000853

DISTRICT OF COLUMBIA

District of Columbia

Terminal Refrigerating and Warehouse Company, 300 D St. SW., Washington, 14000854

IOWA

Cerro Gordo County

East Park Historic District, Roughly bounded by the Winnebago R., N. Carolina, N. Kentucky & N. Virginia Aves., CPRR tracks, E. State St., Mason City, 14000855

Parker's Woods Park Historic District, N. Jackson Ave. between 1st & 4th Sts. NW., Mason City, 14000856

KANSAS

Gray County

Soule Canal—Gray County Segment 1, (Soule Canal MPS) Between US 400/50 & Soule Ave., Ingalls, 14000857

Soule Canal—Segment 2, (Soule Canal MPS) N. side of US 400/50, Ingalls, 14000858

NEW MEXICO

Bernalillo County

Atchison, Topeka and Santa Fe Railway Locomotive Shops, (Central Albuquerque MPS) Roughly bounded by BNSF RR, 1st & 2nd Sts., Albuquerque, 14000859

NEW YORK

Albany County

New York State Barge Canal, NYS Barge Canal, Waterford to Tonawanda, Whitehall, Oswego & Waterloo, Cohoes, 14000860

Franklin County

U.S. Inspection Station—Chateaugay, New York, (U.S. Border Inspection Stations MPS) NY 374, Chateaugay, 14000861

UTAH

Box Elder County

Anderson, George and Mabel, House, 63 N. 200 East, Brigham City, 14000862

Salt Lake County

Murray Hillside Historic District, (Murray City, Utah MPS) Roughly bounded by 5300 South, Kenwood Dr., 5600 South & 235 East, Murray, 14000863

Sanpete County

Shomaker, Ezra and Abigail, House, 194 W. 400 North, Manti, 14000864

VIRGINIA

Loudoun County

Ashburn Historic District, Ashburn Rd. between former African American School & Partlow Rd., Ashburn, 14000865

WISCONSIN

Manitowoc County

MAJOR ANDERSON (barkentine) Shipwreck, (Great Lakes Shipwreck Sites of Wisconsin MPS) Lake Michigan near mouth of Molash Cr., Two Rivers, 14000866

[FR Doc. 2014-23041 Filed 9-26-14; 8:45 am]

BILLING CODE 4312-51-P